DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Haiqing Li at 240-627-3708, or lihai@mail.nih.gov. Licensing information may be obtained by communicating with the Technology Transfer and Intellectual Property Office, National Institute of Allergy and Infectious Diseases, 5601 Fishers Lane, Rockville, MD 20852: tel. 301-496-2644. A signed Confidential Disclosure Agreement will be required to receive copies of unpublished information related to the invention.

SUPPLEMENTARY INFORMATION: Technology description follows:

Monoclonal Antibodies That Bind to the Underside of Influenza Viral Neuraminidase

Description of Technology

Current influenza vaccines mainly induce antibodies against the surface glycoprotein hemagglutinin (HA) that block viral attachment to its host receptors and viral membrane fusion to the host cell. The immunodominant head region of HA undergoes antigenic drift and antibodies directed to the head confer little cross-protections between strains or subtypes.

Researchers at the Vaccine Research Center of the National Institute of Allergy and Infectious Diseases have identified human monoclonal antibodies that each bind distinct epitopes on the less abundant yet critical viral surface glycoprotein neuraminidase (NA). These antibodies, isolated from convalescent individuals with confirmed influenza A H3N2 infection, inhibit viral propagation of a wide range of human H3N2, swine-origin variant H3N2, and H2N2 viruses and confer pre-exposure and post-exposure protection from lethal H3N2 infection in mice. Cryo-electron microscopy revealed that two of these antibodies bind non-overlapping epitopes covering the underside of the NA head, thus defining a potential vaccine target.

This technology is available for licensing for commercial development in accordance with 35 U.S.C. 209 and 37 CFR part 404.

Potential Commercial Applications

• Prevention or treatment of influenza infection

• Testing influenza antigens

Competitive Advantages

• Improved breadth of protection relative to influenza HA-targeting antibodies

Development Stage: Preclinical.

Inventors: Masaru Kanekiyo (NIAID), Sarah Andrews (NIAID), Julia Lederhofer (NIAID), Yaroslav Tsybovsky (Leidos Biomedical Research).

Publications: Protective human monoclonal antibodies target conserved sites of vulnerability on the underside of influenza virus neuraminidase. Lederhofer, Julia et al. Immunity, Volume 57, Issue 3, 574-586.e7.

Intellectual Property: PCT/US2023/071194 filed 28 July 2023 (NIH Ref. No. E-177-2022).

Licensing Contact: To license this technology, please contact Haiqing Li at 240-627-3708, or lihai@mail.nih.gov, and reference E-177-2022.

Dated: September 18, 2024.
Christopher M. Kornak,
Acting Deputy Director, Technology Transfer and Intellectual Property Office, National Institute of Allergy and Infectious Diseases.

[FR Doc. 2024-21742 Filed 9-23-24; 8:45 am]

BILLING CODE 4140-01-P